DEPARTMENT OF THE INTERIOR

Minerals Management Service

[Docket No. MMS-2008-MRM-0029]

Agency Information Collection Activities; Proposed Collection, Comment Request

Correction

In notice document E8-17730 beginning on page 45055 in the issue of Friday, August 1, 2008, make the following correction:

On page 45055, in the second column, under DATES, in the second line, “September 2, 2008” should read “September 30, 2008”.

[FR Doc. Z8-17730 Filed 8-7-08; 8:45 am]

BILLING CODE 1505-01-D